DEPARTMENT OF HEALTH AND HUMAN SERVICES

Office of the Secretary

[Document Identifier: OS-4040-0004 (Formerly OMB-0348-0043) [30-day notice]

Grants.gov Program Management Office; Agency Information Collection Activities: Proposed Collection; Comment Request

AGENCY: Office of the Secretary, Grants.gov Program Management Office, HHS.

In compliance with the requirement of section 3506(c)(2)(A) of the Paperwork Reduction Act of 1995, the Grants.gov Program Management Office, one of the 26 E-Government initiatives, managed by the Department of Health and Human Services is publishing the following summary of proposed collection for public comment. Interested individuals are invited to send comments regarding any aspect of this collection of information or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Regular, Revision of a currently approved collection;

Title of Information Collection: SF-424 Application for Federal Assistance;

Form/OMB No.: OS-4040-0004 (Formerly OMB-0348-0043);

The SF-424 Application for Federal Assistance (OMB control number 0348-0043) was cleared by OMB for emergency use on July 31, 2003, Federal Register notice [68 FR 44974]. OMB has since assigned the responsibility for this government-wide standard form to the Grants.gov Program Management Office and therefore the SF-424 Application for Federal Assistance OMB control number was changed in April 2005 from 0348-0043 to 4040-0004. A 60-day Federal Register Notice was published on September 15, 2005 [Vol. 70. No. 178].

Use: In the Federal Register notice published April 8, 2003 [68 FR 17090], OMB proposed to establish a government-wide standard set of data elements and definitions for grant-related applications. After consultation with the public, OMB added four data elements to the existing Standard Form 424 (SF-424), Application for Federal Assistance data elements and established the data as the standard core data set for use on both paper and electronic applications. After obtaining emergency clearance, July 31, 2003, Federal Register notice, [68 FR 44974], use of the standard data elements was implemented through the electronic grants application process of Grants.gov, and was deployed in October 2003 as part of the implementation of the Federal Financial Assistance Management Improvement Act of 1999 (Pub. L. 106-107).

OMB recognized that a transition period would be needed to provide agencies time to adapt their application forms and systems to the SF-424 core data set and to phase out the use of the old forms. OMB committed to a one-year transition period and further committed to reevaluate the data set at the end of the transition period. Following the expiration of the transition period, a cross-agency working group recommended revisions to the SF-424 core data set and form. Based on these recommendations, the Grants.gov Program office now proposes the addition of the following three new standard data elements to the SF-424 data set and form: Requesting entity's Province to collect non-US geographic subdivision data for international address purposes, if applicable. Requesting entity's Point of Contact's Organizational Affiliation, if applicable. Requesting entity's Point of Contact's Title, if applicable.

The Grants.gov Program office further proposes deletion of the requesting entity's designation of construction or non-construction type of submission data element. Also proposed are non-data collection related changes, i.e., renaming of data elements. These changes are presented in the supporting statement found on the HHS Web site at http://www.hhs.gov/oirm/infocollect/pending.

Federal agencies will not be required to collect all of the information included in the data set. The agency will identify the data that must be provided by applicants through instructions that will accompany the application package.

The efforts to address potential future revisions to the SF-424A and SF-424C budget forms and categories and to evaluate the SF-424B and SF-424D assurance language are separate efforts to be undertaken by the Public Law 106/107 working groups and have no impact upon the proposed revisions to the SF-424 data set or form.

An estimate of the total burden was submitted during the first information collection package for the SF-424 on April 8, 2003, Federal Register notice [68 FR 17090]. The estimate has been updated based on the Paperwork Reduction Act Worksheets (OMB 83-C) received from the agencies. Collectively, the agencies plan to receive 142,223 applications annually and estimate that it takes applicants one hour on average to complete each application. Cumulatively, the agencies report the total burden to applicants to be 146,758 hours.

Frequency: Recordkeeping, Reporting, on occasion.

Affected: Federal, State, Local and Tribal governments; farms; non-profit institutions, and other for-profit.

Total Annual Respondents: 77,576.

Total Annual Responses: 142,223.

Average Burden Per Response: 1 hour.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 30 days of this notice directly to the Desk Officer at the address below: OMB Desk Officer: Katherine Astrich, OMB Human Resources and Housing Branch, Attention: (OMB 4040-0004), New Executive Office Building, Room 10235, Washington, DC 20503.

Date: December 2, 2005.
Robert E. Polson,
Office of the Secretary, Paperwork Reduction Act Reports Clearance Officer.

[FR Doc. E5-7252 Filed 12-12-05; 8:45 am]

BILLING CODE 4157-17-P